DEPARTMENT OF THE INTERIOR

National Park Service

[NPS-WASO-NAGPRA-11742; 2200-1100-665]

Notice of Inventory Completion: Beneski Museum of Natural History, Amherst College, Amherst, MA

AGENCY: National Park Service, Interior.

ACTION: Notice.

SUMMARY: The Beneski Museum of Natural History, Amherst College (formerly the Pratt Museum of Natural History) has completed an inventory of human remains, in consultation with the appropriate Indian tribes, and has determined that there is a cultural affiliation between the human remains and present-day Indian tribes. Representatives of any Indian tribe that believes itself to be culturally affiliated with the human remains may contact the Beneski Museum of Natural History, Amherst College. Repatriation of the human remains to the Indian tribes stated below may occur if no additional claimants come forward.

DATES: Representatives of any Indian tribe that believes it has a cultural affiliation with the human remains should contact the Beneski Museum of Natural History, Amherst College at the address below by January 17, 2013.

ADDRESSES: Tekla A. Harms, NAGPRA Coordinator, Beneski Museum of Natural History, Amherst College, Amherst, MA 01002; telephone (413) 542-2233.

SUPPLEMENTARY INFORMATION: Notice is here given in accordance with the Native American Graves Protection and Repatriation Act (NAGPRA), 25 U.S.C. 3003, of the completion of an inventory of human remains in the possession of the Beneski Museum of Natural History, Amherst College. The human remains were removed from Florida, most likely Brevard or Indian River counties.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the NAGPRA Coordinator and museum staff of the Beneski Museum of Natural History, Amherst College, and their agents, in consultation with representatives of the Caddo Nation of Oklahoma; Catawba Indian Nation (aka Catawba Tribe of South Carolina); Cherokee Nation; Chickasaw Nation; Chitimacha Tribe of Louisiana; Choctaw Nation of Oklahoma; Coushatta Tribe of Louisiana; Jena Band of Choctaw Indians; Miccosukee Tribe of Indians; Mississippi Band of Choctaw Indians; Modoc Tribe of Oklahoma; Quapaw Tribe of Indians; Seminole Tribe of Florida (previously listed as the Seminole Tribe of Florida (Dania, Big Cypress, Brighton, Hollywood & Tampa Reservations)); The Muscogee (Creek) Nation; The Osage Nation (previously listed as the Osage Tribe); The Seminole Nation of Oklahoma; United Keetoowah Band of Cherokee Indians in Oklahoma; and the Wyandotte Nation (hereafter referred to as “The Tribes”). Representatives of the Beneski Museum also contacted and attempted to consult with the Eastern Band of Cherokee Indians; Poarch Band of Creeks (previously listed as the Poarch Band of Creek Indians of Alabama); and the Tunica-Biloxi Indian Tribe.

History and Description of the Remains

In about 1925, human remains representing, at minimum, two individuals were removed from either the area of Melbourne, in Brevard County, FL, or the area of Vero Beach, in Indian River County, FL, by F.B. Loomis, Professor of Geology at Amherst College. In the early 1980s, other remains collected at the same time were transferred from Amherst College to the University of Massachusetts Amherst, Department of Anthropology for permanent curation. These remains are the subject of a separate Notice of Inventory Completion.

Museum records regarding these human remains are fragmentary and only indirectly constrain their provenience. The skull of one individual is marked with a number that corresponds to an entry in the ledger entitled “Catalogue of Skeletal Material, Gilbert Museum of Indian Relics.” The “Gilbert Museum” is an old, informal name for the Gilbert Collection, which is presently housed in the Beneski Museum of Natural History, Amherst College. In its entirety, that entry reads: “Seminole from Melbourne Florida. Complete.” No known individuals have been identified. No associated funerary objects are present.

Both individuals are marked with numbers that resemble the numbering system used by F.B. Loomis in the field. Loomis was engaged in excavating in Florida in 1923 and 1925, at least. No field notes from Loomis's excavations remain, but newspaper reports at the time indicate Loomis collected from “burial mounds” (Melbourne Florida Times, December 5, 1923). The Boston Globe on November 1, 1925, reported Loomis and his coworkers excavated “in Melbourne and on the east coast of Florida” for five weeks and “at Vero Beach” for two, obtaining “50 skulls and about one dozen skeletons.” This article also associates these mounds with Native Americans from southern rather than western Florida, based on the absence of pottery or tools in the mounds. No doubt, this conclusion derived from an interview with Loomis himself. Similarly, the Globe reported, “[t]he skeletons lay in formation around the mound, and when one layer was completed, earth was piled on and another layer begun. In this way the growth of the mound was effected.”

Multiple lines of evidence—guided by tribal consultations—including geographic, oral tradition, archaeological, linguistic, historical, and aboriginal land claims, demonstrate a shared group identity between these human remains and the modern-day tribes of the Muscogee (Creek) Nation, Oklahoma; Seminole Tribe of Florida; and The Seminole Nation of Oklahoma.

Determinations Made by the Beneski Museum of Natural History, Amherst College

Officials of the Beneski Museum of Natural History, Amherst College have determined that:

• Pursuant to 25 U.S.C. 3001(9), the human remains described in this notice represent the physical remains of two individuals of Native American ancestry.

• Pursuant to 25 U.S.C. 3001(2), there is a relationship of shared group identity that can be reasonably traced between the Native American human remains and the Muscogee (Creek) Nation, Oklahoma; Seminole Tribe of Florida; and The Seminole Nation of Oklahoma.

Additional Requestors and Disposition

Representatives of any Indian tribe that believes itself to be culturally affiliated with the human remains should contact the NAGPRA Coordinator, Beneski Museum of Natural History, Amherst College, Amherst, MA 01002; telephone (413) 542-2233, before January 17, 2013. Repatriation of the human remains to the Muscogee (Creek) Nation, Oklahoma; Seminole Tribe of Florida; and The Seminole Nation of Oklahoma may proceed after that date if no additional claimants come forward.

The Beneski Museum of Natural History, Amherst College is responsible for notifying The Tribes that this notice has been published.

Dated: November 20, 2012.
Sherry Hutt,
Manager, National NAGPRA Program.

[FR Doc. 2012-30451 Filed 12-17-12; 8:45 am]

BILLING CODE 4312-50-P